DEPARTMENT OF COMMERCE

National Oceanic and Atmospheric Administration

RIN 0648-XA660

South Atlantic Fishery Management Council Meeting

AGENCY: National Marine Fisheries Service (NMFS), National Oceanic and Atmospheric Administration (NOAA), Commerce.

ACTION: Notice of public meeting of the South Atlantic Fishery Management Council.

SUMMARY: The South Atlantic Fishery Management Council will hold a joint meeting of its Shrimp and Deepwater Shrimp Advisory Panels (AP); meetings of its Shrimp Committee; Spiny Lobster Committee; Law Enforcement Committee; Ecosystem-Based Management Committee; Executive/Finance Committees; King and Spanish Mackerel Committee; Southeast Data, Assessment and Review (SEDAR) Committee; Golden Crab Committee; Snapper Grouper Committee; and a meeting of the Full Council. The Council will take action as necessary. The Council will also hold an informal public question and answer session regarding agenda items and a public comment session. See SUPPLEMENTARY INFORMATION for additional details.

DATES: The Council meeting will be held September 12-16, 2011. See SUPPLEMENTARY INFORMATION for specific dates and times.

ADDRESSES: The meeting will be held at the Charleston Marriott Hotel, 170 Lockwood Blvd., Charleston, SC 29403; telephone: (1-800) 968-3569 or (843) 723-3000; fax: (843) 723-0276. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; e-mail: kim.iverson@safmc.net.

SUPPLEMENTARY INFORMATION:

Meeting Dates

1. Joint Shrimp and Deepwater Shrimp AP Meeting: September 12, 2011, 1:30 p.m. until 5:30 p.m.

The joint Shrimp and Deepwater Shrimp APs will receive reports on: The shrimp closure off of South Carolina; Economic Data Collection; Status of Bycatch in the Atlantic Shrimp Fishery (including rock and royal red shrimp); and Section 7 Consultation, as it pertains to turtles and sawfish. The joint APs will also review potential items for Shrimp Amendment 9 concerning fishery management measures for royal red, rock and pink shrimp, and develop recommendations for the Shrimp Committee.

2. Shrimp Committee Meeting: September 13, 2011, 8:30 a.m. until 12 noon.

The Shrimp Committee will review recommendations from the joint Shrimp AP and develop actions and options for Shrimp Amendment 9.

3. Spiny Lobster Committee Meeting: September 13, 2011, 1:30 p.m. until 3 p.m.

The Spiny Lobster Committee will receive a report on actions necessary to meet the Biological Opinion relative to staghorn and elkhorn corals and will receive an overview of Spiny Lobster Amendment 11 addressing gear modifications and area restrictions relative to protected resources. The Committee will develop preferred alternatives and approve Amendment 11/Environmental Impact Statement (EIS) for public hearings.

4. Law Enforcement Committee Meeting: September 13, 2011, 3 p.m. until 4 p.m.

The Law Enforcement Committee will review the recommendations from the Law Enforcement AP for the Law Enforcement Officer of the Year award. The Committee will also discuss other issues as appropriate.

5. Ecosystem-Based Management Committee: September 13, 2011, 4 p.m. until 5:30 p.m.

The Ecosystem-Based Management Committee will receive a presentation on lionfish and review the status of Comprehensive Ecosystem-Based Amendment (CEBA) 2/Environmental Assessment (EA). The Committee will provide direction to staff on management measures to be included in CEBA 3 and receive an update on ecosystem activities.

6. Executive/Finance Committees: September 14, 2011, 8:30 a.m. until 9:30 a.m.

The Executive/Finance Committees will receive a status report on the calendar year (CY) 2011 Council expenditures and activities. The committees will review and discuss the development of CY2012 Council activities' schedule and budget.

7. King and Spanish Mackerel Committee: September 14, 2011, 9:30 a.m. until 10:30 a.m.

The Mackerel Committee will review the status of commercial and recreational catches versus quotas for species under quota management as well as the status of Amendment 18 to the Coastal Migratory Pelagic Fishery Management Plan for the Gulf of Mexico and South Atlantic, which establishes Annual Catch Limits (ACLs) and Accountability Measures (AMs) for king mackerel, Spanish mackerel, and cobia. The Committee will modify the amendment as necessary. Additionally, the Committee will develop terms of reference (TOR) and appointments for the SEDAR 28 stock assessment for Atlantic and Gulf Spanish mackerel and cobia. The Committee will receive a presentation on results of cobia bag and size limits and will provide direction to Council staff.

8. SEDAR Committee: September 14, 2011, 10:30 a.m. until 12 noon. (Note: Portion of the meeting will be CLOSED.)

The SEDAR Committee will receive an overview of SEDAR activities as well as an update on the SEDAR process and the Southeast Fisheries Science Center (SEFSC) data program. The Committee will develop recommendations for the SEDAR Steering Committee and review the appointed observer comments as well as the Stock Assessment and Fishery Evaluation (SAFE) report for snapper grouper species. The Committee will also make the SEDAR 28 appointments (Closed Session).

9. Golden Crab Committee Meeting: September 14, 2011, 1:30 p.m. until 3:30 p.m.

The Golden Crab Committee will review the status of commercial catches versus quotas, review Golden Crab Amendment 6 addressing catch shares, provide direction to staff, and approve Amendment 6 for public hearings.

10. Snapper Grouper Committee Meeting: September 14, 2011, 3:30 p.m. until 5 p.m. and September 15, 2011, 8:30 a.m. until 12 noon.

The Snapper Grouper Committee will receive a report on Oculina activities and review the status of commercial and recreational catches versus quotas for all species under quota management. The Committee will address any necessary actions as the result of these reports. The Committee will also receive an update on the status of Regulatory Amendment 11, which addresses options for ending overfishing of speckled hind and warsaw grouper.

The Committee will review the corrected final Comprehensive Annual Catch Limit Amendment, which establishes ACLs and Accountability Measures (AMs) for species that are not currently undergoing overfishing, and approve the document for formal review by the Secretary of Commerce. The Committee will also review public hearing comments for Amendment 24/EIS regarding a rebuilding plan for red grouper, modify Amendment 24 as appropriate, approve the document, and provide direction to staff.

The Committee will additionally review the status of Amendment 18A pertaining to black sea bass and data collection, Amendment 18B/EA pertaining to golden tilefish, and Amendment 20A/EA addressing the wreckfish Individual Transferable Quota (ITQ) program. The Committee will modify the amendments as necessary and approve the amendments for public hearing.

Note: There will be an informal public question and answer session with the Regional Administrator from the NMFS and the Council Chairman on September 14, 2011, beginning at 5:30 p.m.

Council Session: September 15, 2011, 1:30 p.m. Until 5:30 p.m. and September 16, 2011, 8:30 a.m. Until 12 Noon

September 15, 2011, 1:30 p.m. Until 5:30 p.m.

From 1:30 p.m. until 2 p.m., the Council will call the meeting to order, adopt the agenda, approve the August 2011 meeting minutes and elect a chairman and vice chairman.

Note: A public comment period will be held on September 15, 2011, beginning at 2 p.m., on the corrected Comprehensive ACL Amendment, followed by public comment on any other item on the Council agenda.

From 3:30 p.m. until 4 p.m., the Council will: Receive a report from the Snapper Grouper Committee; approve the corrected final Comprehensive ACL Amendment for formal review by the Secretary of Commerce; approve Amendment 18A/EIS, Amendment 18B/EA and Amendment 20A/EA for public hearing; consider Committee recommendations; and take action as appropriate.

From 4 p.m. until 4:15 p.m., the Council will receive a report from the King and Spanish Mackerel Committee, consider recommendations, take action as appropriate and take any actions necessary on Amendment 18 based on the August Gulf Council meeting.

From 4:15 p.m. until 4:30 p.m., the Council will receive a report from the Ecosystem-Based Management Committee, consider recommendations and take action as appropriate.

From 4:30 p.m. until 4:45 p.m., the Council will receive a report from the Shrimp Committee, consider recommendations and take action as appropriate.

From 4:45 p.m. until 5 p.m., the Council will receive a report from the Golden Crab Committee, consider recommendations and take action as appropriate.

From 5 p.m. until 5:15 p.m., the Council will receive a report from the SEDAR Committee, consider recommendations and take action as appropriate.

From 5:15 p.m. until 5:30 p.m., the Council will receive a report from the Executive/Finance Committees, consider recommendations and take action as appropriate.

Council Session: September 16, 2011, 8:30 a.m. Until 12 Noon

From 8:30 a.m. until 9 a.m., the Council will receive a legal briefing on litigation. (Closed Session)

From 9 a.m. until 9:15 a.m., the Council will receive a report from the Law Enforcement Committee, consider recommendations and take action as appropriate.

From 9:15 a.m. until 9:30 a.m., the Council will receive a report from the Spiny Lobster Committee, consider recommendations from the Committee and take action as appropriate.

From 9:30 a.m. until 11 a.m., the Council will receive status reports from the NOAA Southeast Regional Office, review and develop recommendations on Experimental Fishing Permits as necessary, and receive status reports from the NMFS Southeast Fishery Science Center.

From 11 a.m. until 12 noon, the Council will review agency and liaison reports and discuss other business, including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda is subject to change.

Special Accommodations

These meetings are physically accessible to people with disabilities. Requests for sign language interpretation or other auxiliary aids should be directed to the Council office (see ADDRESSES) by September 1, 2011.

Dated: August 22, 2011.
Tracey L. Thompson,
Acting Director, Office of Sustainable Fisheries, National Marine Fisheries Service.

[FR Doc. 2011-21843 Filed 8-25-11; 8:45 am]

BILLING CODE 3510-22-P